DEPARTMENT OF DEFENSE

Department of the Army

Performance Review Board Membership

AGENCY: Department of the Army, DoD.

ACTION: Notice.

SUMMARY: Notice is given of the names of members of a Performance Review Board for the Department of the Army.

DATES: The terms begin on November 01, 2017.

FOR FURTHER INFORMATION CONTACT: Barbara Smith, Civilian Senior Leader Management Office, 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The Department of the Army Performance Review Board will be composed of a subset of the following individuals:

1. Ms. Lisha H. Adams, Executive Deputy to the Commanding General, U.S. Army Materiel Command, Redstone Arsenal, AL.

2. LTG Joseph Anderson, Deputy Chief of Staff, G-3/5/7, Office of the Deputy Chief of Staff, G-3/5/7, Washington, DC.

3. Mr. Stephen D. Austin, Assistant Chief of the Army Reserve, Office of the Chief Army Reserve, Washington, DC.

4. Mr. David R. Cooper, Chief Counsel, Office of the Chief Counsel, U.S. Army Corps of Engineers, Washington, DC.

5. Mr. Michael B. Cervone, Director for Maintenance Policy, Programs, and Processes, Office of the Deputy Chief od Staff, G-4. Maintenance Directorate, Washington, DC.

6. MG Jeffery N. Colt, U.S. Army Forces Command, Fort Bragg, NC.

7. LTG Edward M. Daly, Deputy Commanding General, U.S. Army Material Command, Redstone Arsenal, AL.

8. Ms. Karen L. Durham-Aguilera, Executive Director of the Army National Cemeteries Program, Office of the Secretary of the Army, Arlington, VA.

9. Ms. Steffanie B. Easter, Principal Deputy Assistant Secretary of the Army for Acquisition, Policy and Logistics, Office of the Assistant Secretary of the Army (Acquisition, Logistics, and Technology), Washington, DC.

10. Mr. Gregory L. Garcia, Director for Corporate Information, Office of the Chief Information Officer, U.S. Army Corps of Engineers, Washington, DC.

11. Mr. Thomas F. Greco, Deputy Chief of Staff for Intelligence (DCSINT), U.S. Army Training and Doctrine Command, Fort Eustis, VA.

12. Ms. Ellen M. Helmerson, Deputy Chief of Staff, G-8, U.S. Army Training and Doctrine Command, Fort Eustis, VA.

13. Mr. Raymond T. Horoho, Acting Assistant Secretary of the Army (Manpower and Reserve Affairs), Office of the Assistant Secretary of the Army (Manpower and Reserve Affairs), Washington, DC.

14. MG Donald E. Jackson, Jr., Deputy Commanding General for Civil and Emergncy Operations, U.S. Army Corps of Engineers, Washington, DC.

15. Mr. Thomas E. Kelly, Deputy Under Secretary of the Army, Office of the Deputy Under Secretary of the Army, Washington, DC.

16. Ms. Krystyna M. A. Kolesar, Deputy Director, Program Analysis & Evaluation Directorate, Office of the Deputy Chief of Staff, G-8, Washington, DC.

17. Mr. Gary P. Martin, Program Executive Officer, Command, Control and Communications (Tactical), U.S. Army Acquisition Support Center, Office of the PEO, Aberdeen Proving Ground, MD.

18. Mr. Earl G. Matthews, Principal Deputy General Counsel, Office of the General Counsel, Washington, DC.

19. LTG Sean B. MacFarland, Deputy Commanding General, U.S. Army TRADOC, Fort Eustis, VA.

20. Mr. Phillip E. McGhee, Deputy Chief of Staff for Resuorce Management, HQ, U.S. Army Forces Command, Fort Bragg NC.

21. Mr. William F. Moore, Assistant Deputy Chief of Staff, G-4, Office of the Deputy Chief of Staff, G-4, Washington, DC.

22. Mr. Patrick J. O'Neill, Chief Technology Officer, AMC, U.S. Army Materiel Command,Office of the Deputy Commanding General, Redstone Arsenal, AL.

23. LTG Paul A. Ostrowski, Deputy Assistant Secretary of the Army (Acquisition, Logistics and Technology), Office of the Assistant Secretary of the Army (Acquisition, Logistics and Technology), Washington, DC.

24. Mr. Michael J. Pappas, Senior Advisor, Intelligence Capabilities and Requirements, Office of the Deputy Chief of Staff, G-2, Washington, DC.

25. GEN Gustave F. Perna, Commanding General, U.S. Army Materiel Command, Redstone Arsenal AL.

26. Mr. Dean E. Pfoltzer, Principal Director, Policy and Resources/Chief Financial Officer, Office of the Chief Information Officer/G-6, Washington, DC.

27. Mr. David W. Pittman, Director, Research and Development, and Director, Engineering, Research and Development Center, U.S. Army Corps of Engineers, Vicksburg, MS.

28. Mr. Michael T. Powers, Acting Assistant Secretary of the Army (Financial Management and Comptroller). Office of the Assistant Secretary of the Army (Financial Management & Comptroller), Washington, DC.

29. Ms. Diane M. Randon, Deputy Assistant Chief of Staff for Installation Management, Office of the Assistant Chief of Staff for Installation Management, Washington, DC.

30. Mr. Jeffrey N. Rapp, Assistant Deputy Chief of Staff, G-2, Office of the Deputy Chief of Staff, G-2, Washington, DC

31. Ms. Anne L. Richards, The Auditor General, U.S. Amry, Office of the Secretary of the Army, The Auditor Genral Office, Fort Belvoir, VA.

32. Mr. J. Randall Robinson, Principal Deputy to the Assistant Secretary of the Army (Installations, Energy and Environment), Office of the Assistant Secretary of the Army (Installations and Environment), Washington, DC.

33. Dr. Thomas P. Russell, Deputy Assistant Secretary for Reseach and Technology/Chief Scientist, Assistant Secretary of the army for Acquisition Logistics and Technology, Washington, DC.

34. Dr. Connie S. Schmaljohn, Senior Research Scientist (Medical Defense Against Infectiuos Disease Threats), U.S. Army Medical Research Materiel Command, Fort Detrick, MD.

35. LTG Todd T. Semonite, Commanding General, U.S. Army Corps of Engineers, Washington, DC.

36. MG James E. Simpson, Commanding General, U.S. Army Contracting Command, Redstone Arsenal, AL.

37. Dr. Ananthram Swami, Senior Research Scientist (Network Science), U.S. Army Research Lab, U.S. Army Research, Development and Engineering Command, Adelphi, MD.

38. Mr. Roy A. Wallace, Assistant Deputy Chief of Staff, G-1, Office of the Deputy Chief of Staff, G-1, Washington, DC.

Brenda S. Bowen,
Army Federal Register Liaison Officer.

[FR Doc. 2017-23975 Filed 11-2-17; 8:45 am]

BILLING CODE 5001-03-P